DEPARTMENT OF THE INTERIOR

Office of the Secretary

60-Day Notice of Intention To Request Clearance for Information Collection: Opportunity for Public Comment

AGENCY: Office of Youth in the Great Outdoors, Interior.

ACTION: Notice and request for comments.

SUMMARY: Under provisions of the Paperwork Reduction Act of 1995 and 5 CFR Part 1320, Reporting and Recordkeeping Requirements, the Office of Youth in the Great Outdoors invites public comments on an intended request for clearance of information collection.

DATES: Public comments will be accepted on or before November 14, 2011.

ADDRESSES: Send comments to: Maria E. Arnold, Office of the Secretary, Office of Youth in the Great Outdoors, Department of the Interior, 1849 C Street, NW., MS 3559-MIB, Washington, DC 20240; E-mail: maria_arnold@ios.doi.gov.

FOR FURTHER INFORMATION CONTACT: Maria E. Arnold, Office of the Secretary, Office of Youth in the Great Outdoors, Department of the Interior, 1849 C Street, NW., MS 3559-MIB, Washington, DC 20240; E-mail: maria_arnold@ios.doi.gov, 202-219-1664.

SUPPLEMENTARY INFORMATION: Title: Programmatic Approval for Office of Youth in the Great Outdoors (YouthGo)-Sponsored Public Surveys.

Bureau Form Number: None.

OMB Number: 1093-new.

Type of Request: New information collection clearance.

Description of Need: The Office of Youth in the Great Outdoors needs information on youth employment and education programs provided through the Department of the Interior's (DOI's) partnership organizations. The purpose of these information collections is to measure performance of DOI's youth programs. The proposed information collection covers all of the organizational units and bureaus in DOI running youth employment and education programs through partnership organizations. Partnership organizations will voluntarily obtain information from youth program participants. Since many of the YouthGo information collections ask similar questions to similar populations, YouthGo is requesting clearance from OMB for a program of review for focus groups, interviews, youth program observations, and pre-post youth program surveys.

The information collections will address three goals to determine DOI youth program effectiveness:

(1) Building civic engagement and leadership skills.

(2) Enhancing career preparedness and workforce readiness.

(3) Developing environmental stewardship and the next generation of conservationists.

By conducting focus groups, interviews, identical pre-post youth program surveys, and youth program observations, these programs, run both directly by DOI and through DOI partner organizations, will seek feedback on how well they are meeting the three youth program goals. Any individual information collection may collect information on one, two, or all of the three topic areas above. Information collections, as needed, will be submitted individually to OMB for expedited approval. Through the feedback obtained in these information collections, DOI and its partner organizations will be able to determine whether youth program objectives are being met and document the impacts of program participation.

We invite your comments on: (1) The practical utility of the information being gathered; (2) the accuracy of the burden hour estimate; (3) ways to enhance the quality, utility, and clarify of the information to be collected; and (4) ways to minimize the burden to respondents, including use of automated information collection techniques or other forms of information technology. Before including your address, phone number, e-mail address, or other personal identifying information in your comment, you should be aware that your entire comment—including your personal identifying information—may be made publicly available at any time.

While you can ask us in your comment to withhold your personal identifying information from public review, we cannot guarantee that we will be able to do so.

Automated data collection: Automated data collection methods will be used where possible, and will vary by site/location of the DOI youth partnership program. In the case of pre-post surveys, the same data collection method will be used for both the pre- and post-program surveys.

Description of respondents: For any youth program conducting pre-post program surveys, all program participants will be given the opportunity to participate in these identical surveys. Youth program participants range in age from 15 to 30 years (high school through graduate students).

Estimated average number of respondents: 7,000 for surveys and 100 for focus groups/interviews.

Estimated average burden hours per response: 15 minutes for a pre-survey; 15 minutes for a post-survey; 1 hour for a focus group or interview.

Frequency of response: Pre-post surveys will involve two identical surveys, one at the start of the youth program and one at the conclusion of the program. Focus groups and interviews may involve one or more contacts for information collection.

Estimated annual reporting burden: We estimate the requested total number of burden hours annually for all of the information collections to be 3,600 burden hours per year. The total annual burden for surveys conducted under the auspices of this program will be 3,500 hours. The total annual burden for focus groups and interviews will be 100 hours.

We will summarize responses to this notice and include them in the request to the Office of Management and Budget for approval. All comments will become a matter of public record.

Maria E. Arnold,
Youth Program Analyst.

[FR Doc. 2011-23217 Filed 9-9-11; 8:45 am]

BILLING CODE 4310-10-P